FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency took any action with respect to these proposed acquisitions during the applicable waiting period.

ET DATE | Trans Num | Et Req Status | Party Name
01-MAY-09 | 20090415 | G | MatlinPatterson Global Opportunities Partners III L.P.
01-MAY-09 | 20090415 | G | D.E. Shaw Composite International Fund
01-MAY-09 | 20090415 | G | Foamex International, Inc.
01-MAY-09 | 20090420 | G | GS Capital Partners VI, L.P.
01-MAY-09 | 20090420 | G | Global Hyatt Corporation
01-MAY-09 | 20090420 | G | Global Hyatt Corporation
08-JUN-09 | 20090490 | G | Occidental Petroleum Corporation
08-JUN-09 | 20090490 | G | The Dow Chemical Company
08-JUN-09 | 20090490 | G | The Dow Chemical Company
09-JUN-09 | 20090496 | G | Caisse Nationale des Caisses d'Epargne
09-JUN-09 | 20090496 | G | CEBP SA
09-JUN-09 | 20090496 | G | CEBP SA
09-JUN-09 | 20090498 | G | Banque Federale des Banques Populaires
09-JUN-09 | 20090498 | G | CEBP SA
09-JUN-09 | 20090498 | G | CEBP SA
10-JUN-09 | 20090477 | G | AT&T Inc.
10-JUN-09 | 20090477 | G | Verizon Communications Inc.
10-JUN-09 | 20090477 | G | Newco LLC
12-JUN-09 | 20090504 | G | Clayton, Dubilier & Rice Fund VII, L.P.
12-JUN-09 | 20090504 | G | Hertz Global Holdings, Inc.
12-JUN-09 | 20090504 | G | Hertz Global Holdings, Inc.
16-JUN-09 | 20090511 | G | Vista Equity Partners Fund III, L.P.
16-JUN-09 | 20090511 | G | SumTotal Systems, Inc.
16-JUN-09 | 20090511 | G | SumTotal Systems, Inc.
17-JUN-09 | 20090503 | G | Carlyle Partners IV, L.P.
17-JUN-09 | 20090503 | G | Hertz Global Holdings, Inc.
17-JUN-09 | 20090503 | G | Hertz Global Holdings, Inc.
17-JUN-09 | 20090514 | G | Johnson & Johnson
17-JUN-09 | 20090514 | G | Cougar Biotechnology, Inc.
17-JUN-09 | 20090514 | G | Cougar Biotechnology, Inc.
17-JUN-09 | 20090515 | G | OCM/GFI Power Opportunities Fund II, L.P.
17-JUN-09 | 20090515 | G | Robert David Sheehan, Jr.
17-JUN-09 | 20090515 | G | Sheehan Pipe Line Construction Company
18-JUN-09 | 20090493 | G | Novant Health, Inc.
18-JUN-09 | 20090493 | G | Prince William Health System
18-JUN-09 | 20090493 | G | Prince William Health System
18-JUN-09 | 20090499 | G | The Johns Hopkins Health System Corporation
18-JUN-09 | 20090499 | G | Suburban Hospital Healthcare System, Inc.
18-JUN-09 | 20090499 | G | Suburban Hospital Healthcare System, Inc.
18-JUN-09 | 20090527 | G | Alternative Asset Management Acquisition Corp.
18-JUN-09 | 20090527 | G | Andrew Gumaer
18-JUN-09 | 20090527 | G | Great American Group, LLC
18-JUN-09 | 20090528 | G | Alternative Asset Management Acquisition Corp.
18-JUN-09 | 20090528 | G | Harvey M. Yellen
18-JUN-09 | 20090528 | G | Great American Group, LLC
19-JUN-09 | 20090486 | G | Schering-Plough Corporation
19-JUN-09 | 20090486 | G | Novartis AG
19-JUN-09 | 20090486 | G | Novartis Pharma AG
19-JUN-09 | 20090487 | G | Novartis AG
19-JUN-09 | 20090487 | G | Schering-Plough Corporation
19-JUN-09 | 20090487 | G | Schering-Plough Ltd.
23-JUN-09 | 20090532 | G | S. Kumars Nationwide Ltd.
23-JUN-09 | 20090532 | G | Hartmarx Corporation
23-JUN-09 | 20090532 | G | Hartmarx Corporation
25-JUN-09 | 20090505 | G | Valline Sri.
25-JUN-09 | 20090505 | G | Cornerstone Therapeutics Inc.
25-JUN-09 | 20090505 | G | Cornerstone Therapeutics Inc.
25-JUN-09 | 20090512 | G | Sumitomo Metal Mining Co., Ltd.
25-JUN-09 | 20090512 | G | Teck Resources Limited
25-JUN-09 | 20090512 | G | Teck-Pogo, Inc.
25-JUN-09 | 20090526 | G | Golden Gate Capital Opportunity Fund, L.P.
25-JUN-09 | 20090526 | G | Aeon Co. Ltd.
25-JUN-09 | 20090526 | G | J. Jill, LLC
25-JUN-09 | 20090526 | G | Birch Pond Realty Corporation
26-JUN-09 | 20090537 | G | Communications Infrastructure Investments, LLC
26-JUN-09 | 20090537 | G | FiberNet Telecom Group, Inc.
26-JUN-09 | 20090537 | G | FiberNet Telecom Group, Inc.
26-JUN-09 | 20090541 | G | Aquiline Financial Services Fund L.P.
26-JUN-09 | 20090541 | G | Swiss Reinsurance Company Ltd.
26-JUN-09 | 20090541 | G | Conning & Company
26-JUN-09 | 20090541 | G | Conning Asset Management (Europe) Limited
26-JUN-09 | 20090541 | G | Conning Asset Management Limited
29-JUN-09 | 20090492 | G | John C. Malone
29-JUN-09 | 20090492 | G | Liberty Entertainment, Inc.
29-JUN-09 | 20090492 | G | Liberty Entertainment, Inc.
02-JUL-09 | 20090502 | G | EMC Corporation
02-JUL-09 | 20090502 | G | Data Domain, Inc.
02-JUL-09 | 20090502 | G | Data Domain, Inc.
02-JUL-09 | 20090506 | G | NetApp, Inc.
02-JUL-09 | 20090506 | G | Data Domain, Inc.
02-JUL-09 | 20090506 | G | Data Domain, Inc.
06-JUL-09 | 20090543 | G | Golden Gate Capital Opportunity Fund, L.P.
06-JUL-09 | 20090543 | G | SoftBrands, Inc.
06-JUL-09 | 20090543 | G | SoftBrands, Inc.
06-JUL-09 | 20090544 | G | Nokia Corporation
06-JUL-09 | 20090544 | G | Nortel Networks Corporation
06-JUL-09 | 20090544 | G | Nortel Networks Corporation
06-JUL-09 | 20090545 | G | SAIC, Inc.
06-JUL-09 | 20090545 | G | R.W. Beck Group, Inc
06-JUL-09 | 20090545 | G | R.W. Beck Group, Inc
06-JUL-09 | 20090553 | G | CCMP Capital Investors II, L.P.
06-JUL-09 | 20090553 | G | Eddie Bauer Holdings, Inc.
06-JUL-09 | 20090553 | G | Eddie Bauer Holdings, Inc.
07-JUL-09 | 20090539 | G | Sageview Capital Master, L.P.
07-JUL-09 | 20090539 | G | Gerresheimer AG
07-JUL-09 | 20090539 | G | Gerresheimer AG
08-JUL-09 | 20090551 | G | Barclays PLC
08-JUL-09 | 20090551 | G | BlackRock
08-JUL-09 | 20090551 | G | BlackRock
08-JUL-09 | 20090552 | G | BlackRock, Inc.
08-JUL-09 | 20090552 | G | Barclays PLC
08-JUL-09 | 20090552 | G | Barclays California Corporation
10-JUL-09 | 20090565 | G | Harold Hamm
10-JUL-09 | 20090565 | G | Hiland Partners, LP
10-JUL-09 | 20090565 | G | Hiland Partners, LP
13-JUL-09 | 20081721 | G | Markit Group Holdings Limited
13-JUL-09 | 20081721 | G | Newco JV LLC
13-JUL-09 | 20081721 | G | Newco JV LLC
14-JUL-09 | 20090522 | G | Intuit Inc.
14-JUL-09 | 20090522 | G | PayCycle, Inc.
14-JUL-09 | 20090522 | G | PayCycle, Inc.
15-JUL-09 | 20090542 | G | Smith & Wesson Holding Corporation
15-JUL-09 | 20090542 | G | Universal Safety Response, Inc.
15-JUL-09 | 20090542 | G | Universal Safety Response, Inc.
17-JUL-09 | 20090363 | G | Oracle Corporation
17-JUL-09 | 20090363 | G | Devendra D. Bajaj and Sonia Bajaj
17-JUL-09 | 20090363 | G | Relsys Corporation
17-JUL-09 | 20090363 | G | Relsys International, Inc.
17-JUL-09 | 20090562 | G | MetLife, Inc.
17-JUL-09 | 20090562 | G | AIG Credit Facility Trust
17-JUL-09 | 20090562 | G | Mansfield 2007 Trust D
17-JUL-09 | 20090562 | G | Mansfield 2007 Trust E
17-JUL-09 | 20090562 | G | Mansfield 2007 Trust B
17-JUL-09 | 20090562 | G | Mansfield 2007 Trust A
17-JUL-09 | 20090562 | G | Mansfield 2007 Trust C
17-JUL-09 | 20090573 | G | Tower Group, Inc.
17-JUL-09 | 20090573 | G | Specialty Underwriters' Alliance, Inc.
17-JUL-09 | 20090573 | G | Specialty Underwriters Alliance, Inc.
17-JUL-09 | 20090576 | G | 2003 TIL Settlement
17-JUL-09 | 20090576 | G | Thomson Reuters PLC
17-JUL-09 | 20090576 | G | Thomson Reuters PLC
17-JUL-09 | 20090588 | G | BG Group plc
17-JUL-09 | 20090588 | G | EXCO Resources, Inc.
17-JUL-09 | 20090588 | G | EXCO Operating Company, LP
17-JUL-09 | 20090588 | G | Midstream NEWCO, LLC
17-JUL-09 | 20090588 | G | TGG Pipeline, Ltd.
17-JUL-09 | 20090588 | G | GP Holding, LLC
17-JUL-09 | 20090588 | G | Talco Midstream Assets, Ltd.
17-JUL-09 | 20090588 | G | EXCO Production Company, LP
20-JUL-09 | 20090578 | G | VSS-Cambium Holdings, LLC
20-JUL-09 | 20090578 | G | Voyager Learning Company
20-JUL-09 | 20090578 | G | Voyager Learning Company
21-JUL-09 | 20090547 | G | MedStar Health, Inc.
21-JUL-09 | 20090547 | G | St. Mary's Hospital of St. Mary's County, Inc.
21-JUL-09 | 20090547 | G | St. Mary's Hospital of St. Mary's County, Inc.
21-JUL-09 | 20090563 | G | Peninsula Gaming Partners, LLC
21-JUL-09 | 20090563 | G | William J. Yung III
21-JUL-09 | 20090563 | G | Belle of Orleans, L.L.C.
21-JUL-09 | 20090566 | G | Shanghai Electric (Group) Corporation
21-JUL-09 | 20090566 | G | MatlinPatterson Global Opportunities Partners L.P.
21-JUL-09 | 20090566 | G | Goss International Corporation
21-JUL-09 | 20090581 | G | Roark Capital Partners II, LP
21-JUL-09 | 20090581 | G | Waste Pro USA, Inc.
21-JUL-09 | 20090581 | G | Waste Pro USA, Inc.
21-JUL-09 | 20090582 | G | PCG Exchange, Inc. Employee Stock Ownership Plan
21-JUL-09 | 20090582 | G | ALG QSST Trust
21-JUL-09 | 20090582 | G | Academic Loan Group, Inc.
24-JUL-09 | 20090558 | G | Verizon Communications Inc.
24-JUL-09 | 20090558 | G | AT&T Inc.
24-JUL-09 | 20090558 | G | Newco LLC
27-JUL-09 | 20090598 | G | Golden Gate Capital Opportunity Fund, L.P.
27-JUL-09 | 20090598 | G | Eddie Bauer Holdings, Inc.
27-JUL-09 | 20090598 | G | Eddie Bauer Holdings, Inc.
28-JUL-09 | 20090575 | G | Ramius LLC
28-JUL-09 | 20090575 | G | Cowen Group, Inc.
28-JUL-09 | 20090575 | G | Cowen Group, Inc.
31-JUL-09 | 20090601 | G | BancIndependent, Incorporated
31-JUL-09 | 20090601 | G | Regions Financial Corporation
31-JUL-09 | 20090601 | G | Regions Interstate Billing Service, Inc.
31-JUL-09 | 20090602 | G | Oracle Corporation
31-JUL-09 | 20090602 | G | GoldenGate Software, Inc.
31-JUL-09 | 20090602 | G | GoldenGate Software, Inc.
31-JUL-09 | 20090608 | G | Fortis Bank Nederland (Holding) N.V.
31-JUL-09 | 20090608 | G | Fortis Bank S.A./N.V.
31-JUL-09 | 20090608 | G | Fortis Clearing Americas LLC
03-AUG-09 | 20090605 | G | Huntsman Gay Capital Partners Fund, L.P.
03-AUG-09 | 20090605 | G | Grand Isle Shipyard, Inc.
03-AUG-09 | 20090605 | G | Grand Isle Shipyard, Inc.
03-AUG-09 | 20090610 | G | Apax Europe VII-B, LP.
03-AUG-09 | 20090610 | G | Bankrate, Inc.
03-AUG-09 | 20090610 | G | Bankrate, Inc.
05-AUG-09 | 20090606 | G | Lockheed Martin Corporation
05-AUG-09 | 20090606 | G | Jagen Pty Limited
05-AUG-09 | 20090606 | G | Gyrocam Systems LLC
06-AUG-09 | 20090568 | G | Watson Wyatt Worldwide, Inc.
06-AUG-09 | 20090568 | G | Towers, Perrin, Forster & Crosby, Inc.
06-AUG-09 | 20090568 | G | Towers, Perrin, Forster & Crosby, Inc.
06-AUG-09 | 20090569 | G | Towers, Perrin, Forster & Crosby, Inc.
06-AUG-09 | 20090569 | G | Watson Wyatt Worldwide, Inc.
06-AUG-09 | 20090569 | G | Watson Wyatt Worldwide, Inc.
07-AUG-09 | 20090517 | G | General Dynamics Corporation
07-AUG-09 | 20090517 | C | Axsys Technologies, Inc.
07-AUG-09 | 20090517 | G | Axsys Technologies, Inc.
07-AUG-09 | 20090572 | G | Covanta Holding Corporation
07-AUG-09 | 20090572 | G | Veolia Environnement S.A.
07-AUG-09 | 20090572 | G | Montenay International Corp.
07-AUG-09 | 20090619 | G | Aflac Incorporated
07-AUG-09 | 20090619 | G | Leon S. Goodall
07-AUG-09 | 20090619 | G | Continental American Insurance Group, Inc.
11-AUG-09 | 20090609 | G | International Assets Holding Corporation
11-AUG-09 | 20090609 | G | FCStone Group, Inc.
11-AUG-09 | 20090609 | G | FCStone Group, Inc.
11-AUG-09 | 20090618 | G | Pharos-TPG Co-Investment Fund, L.P.
11-AUG-09 | 20090618 | G | Lighthouse Holdings Parent, Inc.
11-AUG-09 | 20090618 | G | Lighthouse Holdings Parent, Inc.
12-AUG-09 | 20090614 | G | Republic Airways Holdings, Inc.
12-AUG-09 | 20090614 | G | Frontier Airlines Holdings, Inc.
12-AUG-09 | 20090614 | G | Frontier Airlines Holdings, Inc.
18-AUG-09 | 20090648 | G | McAfee, Inc.
18-AUG-09 | 20090648 | G | MX Logic, Inc.
18-AUG-09 | 20090648 | G | MX Logic, Inc.
20-AUG-09 | 20090427 | G | Arch Coal, Inc.
20-AUG-09 | 20090427 | G | Rio Tinto plc
20-AUG-09 | 20090427 | G | Jacobs Ranch Coal LLC
20-AUG-09 | 20090448 | G | Oracle Corporation
20-AUG-09 | 20090448 | G | Sun Microsystems, Inc.
20-AUG-09 | 20090448 | G | Sun Microsystems, Inc.
21-AUG-09 | 20090655 | G | Sprint Nextel Corporation
21-AUG-09 | 20090655 | G | Virgin Mobile USA, Inc.
21-AUG-09 | 20090655 | G | Virgin Mobile USA, Inc.
21-AUG-09 | 20090657 | G | ArcLight Energy Partners Fund III, L.P.
21-AUG-09 | 20090657 | G | PPL Corporation
21-AUG-09 | 20090657 | G | PPL Maine, LLC
21-AUG-09 | 20090661 | G | ArcLight Energy Partners Fund IV, LP.
21-AUG-09 | 20090661 | G | PPL Corporation
21-AUG-09 | 20090661 | G | PPL Maine, LLC
21-AUG-09 | 20090665 | G | Targa Resources Partners LP
21-AUG-09 | 20090665 | G | Targa Resources Investments Inc.
21-AUG-09 | 20090665 | G | Targa LSNG LP
21-AUG-09 | 20090665 | G | Targa Downstream GP LLC
21-AUG-09 | 20090665 | G | Targa Downstream LP
21-AUG-09 | 20090665 | G | Targa LSNG GP LLC
24-AUG-09 | 20090647 | G | Aetna Inc.
24-AUG-09 | 20090647 | G | Psychiatric Solutions, Inc.
24-AUG-09 | 20090647 | G | Horizon Behavioral Services, LLC
24-AUG-09 | 20090653 | G | Manulife Financial Corporation
24-AUG-09 | 20090653 | G | PPL Corporation
24-AUG-09 | 20090653 | G | PPL Edgewood Energy, LLC
24-AUG-09 | 20090653 | G | PPL Shoreham Energy, LLC
24-AUG-09 | 20090654 | G | Electric Power Development Co., Ltd.
24-AUG-09 | 20090654 | G | PPL Corporation
24-AUG-09 | 20090654 | G | PPL Edgewood Energy, LLC
24-AUG-09 | 20090654 | G | PPL Shoreham Energy, LLC
25-AUG-09 | 20090664 | G | Sentara Healthcare
25-AUG-09 | 20090664 | G | Potomac Hospital Foundation
25-AUG-09 | 20090664 | G | Potomac Hospital Corporation of Prince William
26-AUG-09 | 20090645 | G | Iochpe-Maxion S.A.
26-AUG-09 | 20090645 | G | ArvinMeritor, Inc.
26-AUG-09 | 20090645 | G | ArvinMeritor OE, LLC
26-AUG-09 | 20090645 | G | Servicios Corporativos ArvinMeritor, S.A. de C.V.
26-AUG-09 | 20090645 | G | Mentor Comercio Industria de Sistemas Automotivos Ltda
26-AUG-09 | 20090645 | G | Mentor LVS S.A. de CV.
28-AUG-09 | 20090672 | G | JPMorgan Chase & Co.
28-AUG-09 | 20090672 | G | ArthroCare Corporation
28-AUG-09 | 20090672 | G | ArthroCare Corporation
28-AUG-09 | 20090676 | G | Noble Group Limited
28-AUG-09 | 20090676 | G | SemGroup, L.P.—Debtor-in-Possession
28-AUG-09 | 20090676 | G | SemFuel, L.P.—Debtor-in-Possession
15-SEP-09 | 20090713 | G | Comvest Investment Partners III, LP
15-SEP-09 | 20090713 | G | Cynergy Data, LLC
15-SEP-09 | 20090713 | G | Cynergy Data, LLC
16-SEP-09 | 20090710 | G | SPO Partners II, L.P.
16-SEP-09 | 20090710 | G | Resolute Energy Corporation
16-SEP-09 | 20090710 | G | Resolute Energy Corporation

FOR FURTHER INFORMATION CONTACT: Sandra M. Peay, Contact Representative or Renee Chapman, Contact Representative. Federal Trade Commission, Premerger Notification Office, Bureau Of Competition, Room H-303, Washington, DC 20580, (202) 326-3100.

By direction of the commission.
Donald S. Clark,
Secretary.

[FR Doc. 2011-324 Filed 1-11-11; 8:45 am]

BILLING CODE 6750-01-M